DEPARTMENT OF HEALTH AND HUMAN SERVICES

National Institutes of Health

National Heart, Lung, and Blood Institute; Notice of Meeting

Pursuant to section 10(a) of the Federal Advisory Committee Act, as amended, notice is hereby given of a meeting of the National Asthma Education Prevention Program Coordinating Committee.

The meeting will be open to the public, with attendance limited to space available. Individuals who plan to attend and need special assistance, such as sign language interpretation or other reasonable accommodations, should notify the Contact Person listed below in advance of the meeting.

Name of Committee: National Asthma Education Prevention Program Coordinating Committee.

Date: July 9, 2021.

Time: 11:00 a.m. to 2:00 p.m.

Agenda: To review and discuss asthma guidelines and implementation; updates on current and future activities. Discussion on programmatic updates.

Place: National Institutes of Health, 6100 Executive Boulevard, Rockville, MD 20852 (Virtual Meeting).

Virtual Access: Please visit the link below to join the webinar: https://nih.zoomgov.com/j/1611655505?pwd=RjBSc0xqbTl0S003eVYxa011eTU1Zz09. Event Passcode: 576619. Call-in: 1-669-254-5252 or 1-646-828-7666. Webinar ID: 161 165 5505. Passcode: 576619. International numbers available: https://nih.zoomgov.com/u/avaNgcx8v.

Contact Person: Susan T. Shero, R.N., M.S., Executive Secretary, National Asthma Education and Prevention Program Coordinating Committee, National Heart, Lung and Blood Institute, 6075 Rockledge Drive, Suite 6197, Bethesda, MD 20892, 301-496-1051, Susan.shero@nih.gov.

Any interested person may file written comments with the committee by forwarding the statement to the Contact Person listed on this notice. The statement should include the name, address, telephone number and when applicable, the business or professional affiliation of the interested person. Information is also available on the Institute's/Center's home page: https://www.nhlbi.nih.gov/advisory-and-peer-review-committees/national-asthma-education-andprevention-program-coordinating, where an agenda and any additional information for the meeting will be posted when available.

(Catalogue of Federal Domestic Assistance Program Nos. 93.233, National Center for Sleep Disorders Research; 93.837, Heart and Vascular Diseases Research; 93.838, Lung Diseases Research; 93.839, Blood Diseases and Resources Research, National Institutes of Health, HHS)

Dated: June 4, 2021.
David W. Freeman,
Program Analyst, Office of Federal Advisory Committee Policy.

[FR Doc. 2021-12092 Filed 6-8-21; 8:45 am]

BILLING CODE 4140-01-P